DEPARTMENT OF TRANSPORTATION

Federal Aviation Administration

Twenty First Meeting of the NextGen Advisory Committee (NAC)

AGENCY: Federal Aviation Administration (FAA), U.S. Department of Transportation (DOT).

ACTION: Notice.

SUMMARY: The FAA is issuing this notice to advise the public of a meeting of the Twenty First Meeting of the NextGen Advisory Committee (NAC). NAC is a subcommittee of the federal advisory committee, RTCA Inc.

DATES: The meeting will be held June 28, 2017, 08:30 a.m.-2 p.m.

ADDRESSES: The meeting will be held at: The FedEx Experience Center (EC), 3851 Airways Boulevard, Module C, 1st Floor, Memphis, Tennessee 38116.

FOR FURTHER INFORMATION CONTACT: Andy Cebula, NAC Secretariat, (202) 330-0652, acebula@rtca.org, 1150 18 Street NW., Suite 910, Washington, DC 20036, or by fax at (202) 833-9434, or Web site at http://www.rtca.org.

SUPPLEMENTARY INFORMATION: Pursuant to section 10(a)(2) of the Federal Advisory Committee Act (Pub. L. 92-463, 5 U.S.C., App.), notice is hereby given for a meeting of the Twenty First Meeting of the NextGen Advisory Committee (NAC). The agenda will include the following:

Wednesday, June 28, 2017, 8:30 a.m. to 2 p.m.

1. Opening of Meeting/Introduction of NAC Members—Chairman David Bronczek

2. Official Statement of Designated Federal Official—Victoria Wassmer, FAA Acting Deputy Administrator

3. Review and Approval of February 22, 2017 Meeting Summary

4. Chairman's Report—Chairman Bronczek

5. FAA Report—FAA

6. Northeast Corridor Phase One Tasking—Final Report for consideration for approval

7. Enhanced Surveillance Task Group—Final Report for consideration for approval

8. ADS-B Equipage

9. NextGen Priorities Status—NextGen Integration Working Group

10. Joint Analysis Team—Wake ReCategorization, PBN Procedures for consideration for approval

11. Summary of meeting and next steps

12. Closing Comments—DFO and NAC Chairman

13. Other business

14. Adjourn

Although the NAC meeting is open to the public, the meeting location has limited space and security protocols that require advanced registration.

To attend: Please email mforrest@rtca.org with name, company, and phone number contact to pre-register no later than June 19, 2017.

With the approval of the Chairman, members of the public may present oral statements at the meeting. Persons wishing to present statements or obtain information should contact the person listed in the FOR FURTHER INFORMATION CONTACT section. Members of the public may present a written statement to the committee at any time.

Issued in Washington, DC, on June 13 2017.
Mohannad Dawoud,
Management & Program Analyst, Partnership Contracts Branch, ANG-A17, NextGen, Procurement Services Division, Federal Aviation Administration.

[FR Doc. 2017-12516 Filed 6-14-17; 8:45 am]

BILLING CODE 4910-13-P